DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by February 2, 2005.

Title, Form, and OMB Number: Nomination for Appointment to the United States Military Academy, Naval Academy, and Air Force Academy; DD Form 1870; OMB Number 0701-0026.

Type of Request: Extension.

Number of Respondents: 16,200.

Responses Per Respondent: 1.

Annual Responses: 16,200.

Average Burden Per Response: 30 minutes.

Annual Burden Hours: 8,100.

Needs and Uses: The information collection requirement is necessary in order to receive nominations from all Members of Congress, the Vice President, Delegates to Congress, and the Governor and Resident Commissioner of Puerto Rico annually to each of the three service academies, as legal nominating authorities. This information collection that results in appointments made to the academies is in compliance with 10 U.S.C. 4342, 6954, 9342, and 32 CFR part 901. The completed form provides the required information for a nomination to be processed.

Affected Public: Individuals or households.

Frequency: On occasion.

Respondent's Obligation: Required to obtain or retain benefits.

OMB Desk Officer: Mr. Lewis Oleinick.

Written comments and recommendations on the proposed information collection should be sent to Mr. Oleinick at the Officer of Management and Budget, Desk Officer for DoD, Room 10236, New Executive Office Building, Washington, DC 20503.

DoD Clearance Officer: Mr. Robert Cushing.

Written requests for copies of the information collection proposal should be sent to Mr. Cushing, WHS/ESCD/Information Management Division, 1225 South Clark Street, Suite 504, Arlington, VA 22202-4326.

Dated: December 23, 2004.
Jeannette Owings-Ballard,
OSD Federal Register Liaison Officer, Department of Defense.

[FR Doc. 04-28645 Filed 12-30-04; 8:45 am]

BILLING CODE 5001-06-M